DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Populations Subcommittee Meeting.

Time and Date:February 27, 2009 8:30 a.m.—1 p.m.

Place: Hubert H. Humphrey Building, 200 Independence Avenue, SW., Room 505A, Washington, DC 20201.

Status: Open.

Purpose: The Populations Subcommittee will hear testimony from invited experts on Federal data capacity to support health policy in the area of modeling health insurance data, to include coverage, access, utilization, quality, and cost of care. The meeting will conclude with a roundtable discussion between the Populations Subcommittee and speakers.

Contact Person for More Information: Substantive program information as well as summaries of meetings and a roster of committee members may be obtained from Debbie Jackson, lead staff for Populations Subcommittee, NCVHS, Centers for Disease Control and Prevention, National Center for Health Statistics, 3311 Toledo Road, Room 2339, Hyattsville, Maryland, 20782, telephone (301) 458-4614 or Marjorie S. Greenberg, Executive Secretary, NCVHS, National Center for Health Statistics, Centers for Disease Control and Prevention, 3311 Toledo Road, Room 2402, Hyattsville, Maryland 20782, telephone (301) 458-4245. Information also is available on the NCVHS home page of the HHS Web site: http://www.ncvhs.hhs.gov/, where further information including an agenda will be posted when available.

Should you require reasonable accommodation, please contact the CDC Office of Equal Employment Opportunity on (301) 458-4EEO (4336) as soon as possible.

Dated: February 4, 2009.
James Scanlon,
Deputy Assistant Secretary for Science and Data Policy, Office of the Assistant Secretary for Planning and Evaluation.

[FR Doc. E9-2877 Filed 2-10-09; 8:45 am]

BILLING CODE 4151-05-P